DEPARTMENT OF THE INTERIOR

Bureau of Land Management

[LLORB07000.L17110000.AL0000. LXSSH1060000.20X.HAG 20-0028]

Notice of Subcommittee Meeting for the Steens Mountain Advisory Council, Oregon

AGENCY: Bureau of Land Management, Interior.

ACTION: Notice of public meeting.

SUMMARY: In accordance with the Federal Land Policy and Management Act of 1976 and the Federal Advisory Committee Act of 1972, the U.S. Department of the Interior, Bureau of Land Management's (BLM) Steens Mountain Advisory Council (SMAC) Recreation and Visitor Use Subcommittee will meet as indicated below.

DATES: The Recreation and Visitor Use Subcommittee of the SMAC will hold a public meeting on Thursday, February 13, 2020, from 1:00 to 4:30 p.m. and on Friday, February 14, 2020, from 8:30 a.m. to 12:30 p.m. at the Hilton Garden Inn in Bend, Oregon.

ADDRESSES: The Hilton Garden Inn is located at 425 SW Bluff Drive, Bend, Oregon 97702.

FOR FURTHER INFORMATION CONTACT: Tara Thissell, Public Affairs Specialist, 28910 Highway 20 West, Hines, Oregon 97738; telephone: 541-573-4519; email: tthissell@blm.gov. Persons who use a telecommunications device for the deaf (TDD) may call the Federal Relay Service (FRS) at 1-800-877-8339 to contact Ms. Thissell during normal business hours. The FRS is available 24 hours a day, 7 days a week, to leave a message or question. You will receive a reply during normal business hours.

SUPPLEMENTARY INFORMATION: The SMAC was established on August 14, 2001, pursuant to the Steens Mountain Cooperative Management and Protection Act of 2000 (Steens Act) (Pub. L. 106-399). The SMAC provides representative advice to the BLM regarding new and unique approaches to management of the land within the bounds of the Steens Mountain Cooperative Management and Protection Area (CMPA), recommends cooperative programs and incentives for landscape management that meet human needs, and advises the BLM on maintenance and improvement of the ecological and economic integrity of the area.

The SMAC's Recreation and Visitor Use Subcommittee was established in 2019 and serves to research, discuss, and evaluate any recreation and visitor use issue in the Steens Mountain CMPA. Issues could relate to parking, hiking, motorized or non-motorized use, signage, interpretation, private to public land access by way of an easement or other agreement, or purchase or exchange of public and private land for improved recreation opportunities and contiguous landscape. The Subcommittee reviews all aspects of any recreation or visitor use issue, formulates suggestions for remedy, and proposes those solutions to the entire SMAC for further discussion and possible recommendation to the BLM.

The February 13 agenda includes an update from the Designated Federal Official, review of 2019 recreation statistics for the Steens Mountain area, discussion on the SMAC's definition of “reasonable access” and constituent feedback, and a discussion on recreation and visitor access at Home Creek Canyon.

The February 14 agenda includes a presentation on Redband trout populations and recreational fishing in the Steens Mountain area, information sharing regarding designated Wilderness and Wilderness Study Areas, review of sections of the Steens Mountain Cooperative Management and Protection Act of 2000 referencing economics, and an opportunity for subcommittee members to share information from their constituents and present research members have done between meetings. Any other matters that may reasonably come before the subcommittee may also be included.

Public comment periods are available on Thursday, February 13, at 3:30 p.m., and on Friday, February 14, at 11:15 a.m. Unless otherwise approved by the subcommittee chair, the public comment period will last no longer than 30 minutes. Each speaker may address the subcommittee for a maximum of 5 minutes. Sessions may end early if all business items are accomplished ahead of schedule or maybe extended if discussions warrant more time. All meetings are open to the public in their entirety.

Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Jeff Rose,
District Manager.

[FR Doc. 2020-01291 Filed 1-24-20; 8:45 am]

BILLING CODE 4310-33-P